ENVIRONMENTAL PROTECTION AGENCY

[EPA-HQ-OAR-2020-0639; FRL-10198-01-OMS]

Information Collection Request Submitted to OMB for Review and Approval; Comment Request; NESHAP for Friction Materials Manufacturing (Renewal)

AGENCY: Environmental Protection Agency (EPA).

ACTION: Notice.

SUMMARY: The Environmental Protection Agency (EPA) has submitted an information collection request (ICR), NESHAP for Friction Materials Manufacturing (EPA ICR Number 2025.10, OMB Control Number 2060-0481), to the Office of Management and Budget (OMB) for review and approval in accordance with the Paperwork Reduction Act. Public comments were previously requested, via the Federal Register on February 8, 2021 during a 60-day comment period. This notice allows for an additional 30 days for public comments. A fuller description of the ICR is given below, including its estimated burden and cost to the public. An agency may neither conduct nor sponsor, and a person is not required to respond to, a collection of information unless it displays a currently-valid OMB control number.

DATES: Additional comments may be submitted either on or before October 11, 2022.

ADDRESSES: Submit your comments, referencing Docket ID Number EPA-HQ-OAR-2020-0639, online using https://www.regulations.gov/ (our preferred method), or by email to docket.oeca@epa.gov, or by mail to: EPA Docket Center, Environmental Protection Agency, Mail Code 28221T, 1200 Pennsylvania Ave. NW, Washington, DC 20460.

The EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: http://www.epa.gov/dockets.

Abstract: Owners and operators of friction materials manufacturing facilities are required to comply with reporting and record keeping requirements for the General Provisions (40 CFR part 63, subpart A), as well as for the applicable specific standards in 40 CFR part 63 subpart QQQQQ. This includes submitting initial notifications, periodic reports and results, and maintaining records of any period during which the monitoring system is inoperative. These reports are used by the EPA to determine compliance with these standards.

Form Numbers: None.

Respondents/affected entities: Friction materials manufacturing facilities.

Respondent's obligation to respond: Mandatory (40 CFR part 63, subpart QQQQQ).

Estimated number of respondents: 2 (total).

Frequency of response: Semiannually.

Total estimated burden: 534 hours (per year). Burden is defined at 5 CFR 1320.3(b).

Total estimated cost: $63,700 (per year), which includes $544 in annualized capital/startup and/or operation & maintenance costs.

Changes in the Estimates: There is a decrease in burden from the most-recently approved ICR as currently identified in the OMB Inventory of Approved Burdens. The regulations were revised in 2019 (84 FR 2742) in the previous ICR (2025.09) to remove SSM plan and reporting requirements and revise reporting requirements for deviations. However, the reduction in burden in ICR 2025.09 is due to the removal of SSM requirements that were not calculated correctly. The frequency of recordkeeping for `Copies of notifications/reports' and `Time to transmit or disclose information' should have been reduced from five per year to three per year to reflect the removal of two submittals for the SSM plan. That error has been corrected in this ICR (2025.10). The growth rate for this industry is very low or non-existent. Since the changes in the regulatory requirements did not require new monitoring or equipment, and there is no significant industry growth, there are also no changes in the capital/startup or operation and maintenance (O&M) costs.

Courtney Kerwin,
Director, Regulatory Support Division.

[FR Doc. 2022-19424 Filed 9-7-22; 8:45 am]

BILLING CODE 6560-50-P